DEPARTMENT OF HEALTH AND HUMAN SERVICES

Administration for Children and Families

Expedited OMB Review and Public Comment: Recordkeeping for New Vaccine and Mask Requirements To Mitigate the Spread of COVID-19 in Head Start

AGENCY: Office of Head Start, Administration for Children and Families, HHS.

ACTION: Request for public comment.

SUMMARY: An Interim Final Rule with Comment Period (IFC) was published on November 30, 2021 that established the COVID-19 vaccination requirements whereby all Head Start staff, certain contractors, and volunteers must be vaccinated for COVID-19 by January 31, 2022. The Office of Head Start, Administration for Children and Families (ACF), U.S. Department of Health and Human Services (HHS), is requesting expedited review of an information collection request from the Office of Management and Budget (OMB) and inviting public comments on the following new recordkeeping requirements for Head Start programs: (1) Collect and maintain records on the vaccination status of staff, certain contractors, and volunteers in Head Start and Early Head Start programs, and (2) develop and maintain a written COVID-19 protocol for testing individuals granted vaccine exemptions including granting such exemptions.

We also invite comments on the impact of this new requirement on the current requirement for Head Start programs to maintain, including regularly update, program policies and procedures for personnel (associated burden approved under OMB #: 0970-0148).

DATES: Comments due within 60 days of publication. In compliance with the requirements of the Paperwork Reduction Act of 1995, ACF is soliciting public comment on the specific aspects of the information collection described in this notice.

ADDRESSES: Copies of the proposed collection of information can be obtained and comments may be submitted by emailing infocollection@acf.hhs.gov. All requests should identify the title of the information collection.

SUPPLEMENTARY INFORMATION: Description: ACF is requesting that OMB grant a 180-day approval for this request under procedures for expedited processing. A request for review under normal procedures will be submitted as soon as possible within 180 days of the approval for this request. This request is for recipients of Head Start funding to maintain records of staff (including certain contractors) and volunteer vaccination status to meet the new vaccine requirements and establish written COVID-19 testing protocols, as required by IFC: Title (86 FR 68052).

Additionally, programs are expected to update their program policies and procedures to ensure costs associated with regular testing for those granted an exemption are an allowable use of Head Start funds. The recordkeeping activity of maintaining program policies and procedures for personnel, including the associated burden with updating them on an annual basis, is approved under OMB Control Number 0970-0148. Since the new reporting requirement impacts these activities, we also invite public comment on these reporting requirements.

There is no standard instrument required to be used to meet these recordkeeping requirements.

Respondents: Recipients of Head Start funding.

Annual Burden Estimates
Instrument | Total number of respondents | Responses per respondent | Average annual burden hours | Annual burden hours
Staff and Volunteer Reporting of New Vaccination (one-time) | 58,116 | 1 | 0.6667 | 38,744
Staff and Volunteer Reporting of Existing Vaccination (one-time) | 924,000 | 1 | 0.0278 | 25,666.7
Staff and Volunteer Requesting an Exemption (one-time) | 66,700 | 1 | 0.1667 | 11,116.7
Grant Recipient Maintaining Complete Records of Vaccination Status (ongoing) | 1,573 | 1 | 4.2403 | 6,670
Grant Recipient Establishing COVID-19 Testing Protocol (one-time) | 1,573 | 1 | 3.3333 | 5,243.3
Grant Recipient Maintaining COVID-19 Testing Protocol (ongoing) | 1,573 | 1 | 1 | 1,573

Estimated Total Annual Burden Hours: We estimate the one-time and ongoing burden to maintain records on staff and volunteer vaccination rates and establish and maintain a written COVID-19 testing protocol will result in 89,013.7 total annual burden hours.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

(Authority: IFC [86 FR 68052])

Mary B. Jones,
ACF/OPRE Certifying Officer.

[FR Doc. 2021-27195 Filed 12-15-21; 8:45 am]

BILLING CODE 4184-40-P